DEPARTMENT OF ENERGY

Federal Energy Regulatory Commission

[Docket No. RP01-434-000]

Gas Research Institute; Notice of Annual Application

June 7, 2001.

Take notice that on June 1, 2001, Gas Research Institute (GRI) filed an application requesting advance approval of its 2002-2006 Five-Year Research, Development and Demonstration (RD&D) Plan, and the 2002 RD&D Program and the funding of its RD&D activities for 2002, pursuant to section 154.401 of the Commission's Regulations under the Natural Gas Act, the Commission's Rules of Practice and Procedure, and the Commission's April 29, 1998 Order Approving Settlement [83 FERC ¶ 61,093(1998)].

In its application, GRI states that all aspects of its proposed 2002 Program are consistent with the current Settlement. GRI states that proposed budgets are identical to those approved as part of the Settlement. GRI proposes to incur contract obligations of $60.0 million in 2002. Consistent with the Commission's April 29, 1998 Order Approving Settlement, GRI states that all $60.0 million of the 2002 contract obligations will be for Core Projects. GRI's application seeks to collect funds to support its RD&D program through jurisdictional rates and charges during the twelve months ending December 31, 2002. In addition GRI adds that since actual collections for 2000 of $134.0 million are $9.9 million less than projected, proposed 2002 surcharges are those set forth in the Settlement Agreement adjusted upward by 10 percent consistent with the stated intention of Settlement Agreement Article II, section 1.0 and have the potential to narrow the gap between actual collections and projected revenues by approximately $6 million.

Consistent with the Commission's April 29, 1998 Order Approving Settlement, GRI proposes to fund the 2002 RD&D program by the use of the following surcharges: (1) A demand/reservation surcharge of 6.6 cents per Dth per Month for “high load factor customers;” (2) a demand still reservation surcharge of 4.07 cents per Dth per month for “low load factor customers”; (3) a volumetric commodity/usage surcharge of 0.55 cents; and (4) a special “small customer” surcharge of .88 cents per Dth. All of the proposed 2020 surcharges represent decreases from corresponding current levels.

The Commission Staff will analyze GRI's application and prepare a Commission Staff Report. This Staff Report will be served on all parties and filed with the Commission as a public document on August 10, 2001. Comments on the Staff Report and GRI's application by all parties, except GRI, must be filed with the Commission on or before August 24, 2001. GRI's reply comments must be filled on or after August 31, 2001.

Any person desiring to be heard or to protest GRI's application, except for GRI members and state regulatory commissions, who are automatically permitted to participate in the instant proceedings as intervenors, should file a motion to intervene or protest with the Federal Energy Regulatory Commission, 888 First Street, N.E., Washington, D.C. 20426, in accordance with the Commission's Rules and Regulations. All such motions or protests should be filed on or before June 21, 2001. All comments and protests will be considered by the Commission in determining the appropriate action to be taken, but will not serve to make protestants parties to this proceeding. Any person wishing to become a party, other than a GRI member or a state regulatory commission, must file a motion to intervene. Copies of this filing are on file with the Commission and are available for public inspection in the public reference room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14847 Filed 6-12-01; 8:45 am]

BILLING CODE 6717-01-M